DEPARTMENT OF TRANSPORTATION

Federal Aviation Administration

14 CFR Part 71

[Docket No. FAA-2001-9559; Airspace Docket No. 01-AWP-2]

RIN 2120-AA66

Proposed Revision of VOR Federal Airway 105, and Jet Route 58 and 86; and Establishment of Jet Routes 614 and 616

AGENCY: Federal Aviation Administration (FAA), DOT.

ACTION: Supplemental Notice of proposed rulemaking (SNPRM).

SUMMARY: This notice supplements a notice of proposed rulemaking (NPRM) published in the Federal Register on June 20, 2001. In that notice, the FAA proposed to realign Federal Airway 105 (V-105) and Jet Route 86 (J-86) in the Phoenix, AZ, area. In this supplemental notice, the FAA is proposing to correct an inadvertent error in the previously proposed description of V-105. Additionally, in this notice, the FAA is proposing to modify the previously proposed descriptions for J-58 and J-86, and to rename portions of J-58 and J-86 in the state of Florida. These proposed modifications are part of the National Airspace Redesign effort to improve system efficiency.

DATES: Comments must be received on or before October 11, 2001.

ADDRESSES: Send comments on this proposal to the Docket Management System, U.S. Department of Transportation, Room Plaza 401, 400 Seventh Street, SW., Washington, DC 20590-0001. You must identify the docket number FAA-2001-9559/Airspace Docket No. 01-AWP-2, at the beginning of your comments.

You may also submit comments on the Internet at http://dms.dot.gov. You may review the public docket containing the proposal, any comments received, and any final disposition in person in the Dockets Office between 9:00 a.m. and 5:00 p.m., Monday through Friday, except Federal holidays. The Docket Office (telephone 1-800-647-5527) is on the plaza level of the Department of Transportation NASSIF Building at the above address.

An informal docket may also be examined during normal business hours at the office of the Regional Air Traffic Division, Federal Aviation Administration, 15000 Aviation Boulevard, Hawthorne, CA 90261.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers and be submitted in triplicate to the address listed above. Commenters wishing the FAA to acknowledge receipt of their comments on this notice must submit with those comments a self-addressed, stamped postcard on which the following statement is made: “Comments to Docket No. FAA-2001-9559/Airspace Docket No. 01-AWP-2.” The postcard will be date/time stamped and returned to the commenter.

All communications received on or before the specified closing date for comments will be considered before taking action on the proposed rule. The proposal contained in this notice may be changed in light of comments received. All comments submitted will be available for examination in the Rules Docket both before and after the closing date for comments. A report summarizing each substantive public contact with FAA personnel concerned with this rulemaking will be filed in the docket.

Availability of SNPRM's

An electronic copy of this document may be downloaded through the Internet at http://dms.dot.gov. Recently published rulemaking documents can also be accessed through the FAA's web page at http://www.faa.gov or the Superintendent of Document's web page at http://www.access.gpo.gov/nara.

Additionally, any person may obtain a copy of this notice by submitting a request to the Federal Aviation Administration, Office of Air Traffic Airspace Management, ATA-400, 800 Independence Avenue, SW., Washington, DC 20591, or by calling (202) 267-8783. Communications must identify both docket numbers for this notice. Persons interested in being placed on a mailing list for future NPRM's should call the FAA's Office of Rulemaking, (202) 267-9677, for a copy of Advisory Circular No. 11-2A, Notice of Proposed Rulemaking Distribution System, which describes the application procedure.

Background

V-105

On June 20, 2001, Airspace Docket No. 01-AWP-02, FAA-2001-9559 (66 FR 30654), was published in the Federal Register. In that airspace docket the FAA proposed to realign V-105 and J-86 in the Phoenix, AZ, area. The June 20, 2001 NPRM contained an inadvertent error in the proposed description of V-105. Specifically, the description transposed the magnetic and true radials of V-105. This SNPRM corrects that error.

J-58 and J-86

Currently the navigational signal in the vicinity of the Gulf of Mexico is not sufficient enough to support that segment of J-58 between the Harvey, LA, Very High Frequency Omnidirectional Radio Range and Tactical Air Navigation Aids (VORTAC), and the Sarasota VORTAC. The same dilemma affects that segment of J-86 between the Leeville VORTAC and the Sarasota, FL, VORTAC. Due to the weak navigational signal affecting these routes, they no longer pass flight inspection. The FAA is therefore proposing in this action to remove the route segments over the Gulf and terminate them at the Harvey VORTAC (for J-58) and the Leeville VORTAC (for J-86) respectively.

To replace the revoked segments, over water advanced navigation routes were established under a separate action. These over water navigation routes do not rely on ground based navigation facilities and are not subject to navigation signal coverage limitations. Additionally, in this action, the FAA is proposing to rename the route segments of J-58 and J-86 in the State of Florida to avoid confusion.

The Proposal

The FAA is proposing an amendment to Title 14 Code of Federal Regulations (14 CFR) part 71 to revise V-105 and J-86 in the vicinity of Phoenix Arizona. Specifically, this notice corrects the proposed description of V-105 between the Drake and Phoenix, AZ, VORTAC. Additionally, in this action the FAA is proposing to revise J-86 between Winslow, AZ, and the Leeville, LA, VORTAC; removes the segment of J-86 between the Leeville VORTAC and the Sarasota, FL, VORTAC; renames the J-86 route segment from the Sarasota VORTAC to the Dolphin, FL, VORTAC, J-616; amend J-58 by terminating the route at the Harvey, LA, VORTAC; removing the segment of J-58 between the Harvey VORTAC and the Sarasota, FL, VORTAC; and renaming the route from the Sarasota VORTAC to the Dolphin, FL, VORTAC, J-614. These actions are necessary because J-58 and J-86 fail to pass flight inspection over the Gulf of Mexico due to gaps in navigation signal coverage. These changes are part of the National Airspace Redesign effort to improve system efficiency and safety.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Jet routes and Domestic VOR Federal airways are published in paragraphs 2004 and 6010(a), respectively, of FAA Order 7400.9H dated September 1, 2000, and effective September 16, 2000, which is incorporated by reference in 14 CFR 71.1. The jet route and VOR Federal airway listed in this document would be published subsequently in the order.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of FAA Order 7400.9H, Airspace Designations and Reporting Points, dated September 1, 2000, and effective September 16, 2000, is amended as follows:

Paragraph 2004 Jet Routes

* * * * *

J-58 [Revised]

From Oakland, CA, via Manteca, CA; Coaldale, NV; Wilson Creek, NV; Milford, UT; Farmington, NM; Las Vegas, NM; Panhandle, TX; Wichita Falls, TX; Ranger, TX; Alexandria, LA; Harvey, LA.

J-86 [Revised]

From Beatty, NV; INT Beatty 131° and Boulder City, NV, 284° radials; Boulder City; Peach Springs, AZ; INT of Peach Springs 091° (076°M) and Winslow, AZ, 301° (287°M) radials, El Paso, TX; Fort Stockton, TX; Junction, TX; Humble, TX; Leeville, LA.

J-614 [New]

Sarasota; Lee County, FL; to the INT Lee County 120° and Dolphin, FL, 293° radials; Dolphin.

J-616 [New]

Sarasota; INT Sarasota 103° and La Belle, FL, 313° radials; La Belle; to Dolphin, FL.

* * * * *

Paragraph 6010(a) Domestic VOR Federal Airways

* * * * *

V-105 [Revised]

From Tucson, AZ; INT Tucson 300° and Stanfield, AZ 145° radials; Stanfield; Phoenix, AZ; INT Phoenix 333° (321°M) and Drake, AZ, 182° (168°M) radials; Drake; 25 miles, 22 miles 85 MSL; Boulder City, NV; Las Vegas, NV; INT Las Vegas 266° and Beatty, NV, 142° radials; 17 miles, 105 MSL; Beatty; 105 MSL, Coaldale, NV; 82 miles, 110 MSL; to Mustang, NV.

* * * * *

Issued in Washington, DC, on September 5, 2001.
Reginald C. Matthews,
Manager, Airspace and Rules Division.

[FR Doc. 01-22771 Filed 9-10-01; 8:45 am]

BILLING CODE 4910-13-P